DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS) Subcommittee on Privacy and Confidentiality.

Time and Date: November 18, 2004, 9 a.m.-5 p.m.; November 19, 2004, 8:30 a.m.-12:30 p.m.

Place: Hubert H. Humphrey Building, Room 505A, 200 Independence Avenue, SW., Washington, DC 20201.

Status: Open.

Purpose: On the first day of this meeting the Subcommittee will hear presentations and hold discussions on privacy and confidentiality issues in e-prescribing. On the morning of the second day the Subcommittee will focus on the impact of the HIPAA Security Rule on current and emerging technologies in medical equipment.

For Further Information Contact: Substantive program information as well as summaries of meetings and a roster of committee members may be obtained from Amy Chapper, Lead Staff for Subcommittee on Privacy and Confidentiality, Centers for Medicare and Medicaid Services, 7500 Security Boulevard, Baltimore, Maryland 21244, telephone (410) 786-0367; or Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: October 19, 2004.
James Scanlon,
Acting Deputy Assistant Secretary for Science and Data Policy, Office of the Assistant Secretary for Planning and Evaluation.

[FR Doc. 04-24219 Filed 10-28-04; 8:45 am]

BILLING CODE 4151-05-M